DEPARTMENT OF THE INTERIOR

Bureau of Land Management

[AZ-200-06-5230-PH-1000-241A]

Temporary Emergency Road Closure, Sonoran Desert National Monument, AZ

AGENCY: Bureau of Land Management, Interior.

ACTION: Notice of temporary road closure.

SUMMARY: This notice is to inform the public that the Bureau of Land Management (BLM) intends to temporarily close an un-maintained, dirt-surfaced vehicle route in the Sonoran Desert National Monument to all travel by motor vehicles. The vehicle route affected by this temporary closure traverses public lands in T. 4 S., R. 2 W., sections 26, 27, and 35, and T. 5 S., R. 2 W., sections 2, 11, and 12 (Gila and Salt River Meridian) and is approximately 4.4 miles in length. The following persons, operating within the scope of their official duties, are exempt from the provisions of this closure: Employees of the BLM, Arizona Game and Fish Department, and local and Federal law enforcement and fire protection personnel. Access by additional parties may be allowed, but must be approved in advance in writing by the Sonoran Desert National Monument Manager. Any person who fails to comply with the provisions of this closure may be subject to penalties outlined in 43 CFR 8360.0-7.

DATES: The closure will be in effect during the period March 17, 2006 through April 5, 2006.

FOR FURTHER INFORMATION CONTACT: Karen Kelleher, Manager; Sonoran Desert National Monument; 21605 North 7th Avenue; Phoenix, AZ 85027; (623) 580-5500.

SUPPLEMENTARY INFORMATION: The temporary road closure will provide for the safety of BLM staff and volunteers engaged in reclamation work adjacent to the vehicle route, reduce exposure to the high volumes of dust generated by the passage of vehicles on this route, and assure that the reclamation work will not be outpaced by ongoing off-highway-vehicle (OHV) damage originating from this vehicle route. The temporary closure and reclamation work will allow for the reclamation of damage to soils and vegetation caused by OHV use, and for restoration of scenic values of the SNDM. The temporary closure will not restrict vehicle access to the eastern boundary of the North Maricopa Mountains Wilderness or to the Butterfield Trail. Prior to and during the closure, the closed route will be posted with signs advising of the purpose and duration of the closure and of the reclamation project.

Dated: February 16, 2006.
Karen Kelleher,
Manager, Sonoran Desert National Monument.

[FR Doc. E6-3902 Filed 3-16-06; 8:45 am]

BILLING CODE 4310-32-P